DEPARTMENT OF HOMELAND SECURITY

Federal Emergency Management Agency

[Docket ID FEMA-2007-0008]

National Advisory Council

AGENCY: Federal Emergency Management Agency, Department of Homeland Security.

ACTION: Solicitation; request for applicants for appointment to the National Advisory Council; correction.

SUMMARY: The Federal Emergency Management Agency (FEMA) published a document in the Federal Register of January 31, 2022, concerning a request for applicants for appointment to the National Advisory Council. The document contained an incorrect link.

FOR FURTHER INFORMATION CONTACT: Rob Long, Designated Federal Officer, Office of the National Advisory Council, Federal Emergency Management Agency; FEMA-NAC@fema.dhs.gov, 202.646.2700.

SUPPLEMENTARY INFORMATION:

Correction

In the Federal Register of January 31, 2022, in FR Doc. 87-4900, on page 4900, in the second column, correct the SUPPLEMENTARY INFORMATION caption to read:

The NAC is an advisory council established in accordance with the provisions of the Federal Advisory Committee Act (FACA), 5 U.S.C. Appendix. As required by PKEMRA, the Secretary of Homeland Security established the NAC to ensure effective and ongoing coordination of federal preparedness, protection, response, recovery, and mitigation for natural disasters, acts of terrorism, and other man-made disasters. FEMA is requesting that individuals who are interested in and qualified to serve on the NAC apply for appointment to an open position in one of the following discipline areas: Climate Change (Special Government Employee (SGE)); Cybersecurity (SGE); Disabilities, Access, and Functional Needs (Representative (Rep.)); Elected State Officials (Rep.); Emergency Management (Rep.); Emergency Medical Provider (Rep.); Non-Elected Local Official (Rep.); Non-Elected State Government Officials (Rep.); Public Health (SGE); and two (2) Standards Setting and Accrediting (Rep.).The Administrator may appoint up to three (3) additional candidates to serve as FEMA Administrator Selections (as SGE appointments). Please visit: https://www.fema.gov/about/offices/national-advisory-council/meetings/membership-applications for further information on expertise required to fill these positions. Appointments will be for 3-year terms, or for the remainder of an existing term that is open. Appointments begin in December 2022.

The NAC Charter contains more information and can be found at: https://www.fema.gov/sites/default/files/documents/fema_nac-amended-charter_102921.pdf.

If you are interested, qualified, and want FEMA to consider appointing you to fill an open position on the NAC, please submit an application package to the Office of the NAC as listed in the ADDRESSES section of this notice. There is no application form; however, each application package MUST include the following information:

• Cover letter, addressed to the Office of the NAC, that includes or indicates: Current position title and employer or organization you represent, home and work addresses, and preferred telephone number and email address; the discipline area position(s) for which you would like consideration; why you are interested in serving on the NAC; and how you heard about the solicitation for NAC members;

• A summary of the most important accomplishments that qualify you to serve on the NAC, in the form of three to five bullets in less than 75 words total;

• Resume or Curriculum Vitae (CV); and

• One Letter of Recommendation addressed to the Office of the NAC.

Your application package must be less than eight total pages to be considered by FEMA. Information contained in your application package should clearly indicate your qualifications to serve on the NAC and fill one of the current open positions. FEMA will not consider incomplete applications. FEMA will review the information contained in application packages and make selections based on: (1) Leadership attributes; (2) emergency management experience; (3) expert knowledge in identified discipline area; and (4) ability to meet NAC member expectations. FEMA will also consider overall NAC composition, including diversity (including, but not limited to geographic, demographic, and experience) and a mix of officials, emergency managers, and emergency response providers from state, local, tribal, and territorial governments, when selecting members.

Appointees may be designated as a Special Government Employee (SGE) as defined in section 202(a) of Title 18, U.S.C., as a Representative member, or as a Regular Government Employee (RGE). SGEs speak in a personal capacity as experts in their field and Representative members speak for the stakeholder group they represent. Candidates selected for appointment as SGEs are required to complete a new entrant Confidential Financial Disclosure Form (Office of Government Ethics (OGE) Form 450) each year. You can find this form at the Office of Government Ethics website (http://www.oge.gov). However, please do not submit this form with your application.

The NAC generally meets in person twice per year. FEMA does not pay NAC members for their time, but may reimburse travel expenses such as airfare, hotel lodging, and other transportation costs within Federal Travel Regulations when pre-approved by the Designated Federal Officer. NAC members must serve on one of the NAC subcommittees, which meet regularly by virtual means, usually teleconference call. FEMA estimates the total time commitment for subcommittee participation to be 2 hours per week (more for NAC leadership).

DHS does not discriminate on the basis of race, color, religion, sex, national origin, sexual orientation, gender identity, marital status, political affiliation, disability and genetic information, age, membership in an employee organization, or other non-merit factor. In order for the Administrator to fully leverage broad-ranging experience and education, the NAC must be diverse with regard to professional and technical expertise. The Administrator will also pursue opportunities, consistent with applicable law, to compose a committee that reflects the diversity of the nation's people, and will strive to achieve a widely diverse candidate pool for all NAC recruitment actions. Current DHS and FEMA employees, including FEMA Reservists, are not eligible for membership. Federally registered lobbyists may apply for positions designated as Representative appointments but are not eligible for positions that are designated as SGE appointments.

Dated: February 2, 2022.
Shabnaum Q. Amjad,
Acting Associate Chief Counsel, Regulatory Affairs Division, Office of Chief Counsel, Federal Emergency Management Agency.

[FR Doc. 2022-02550 Filed 2-7-22; 8:45 am]

BILLING CODE 9111-48-P